DEPARTMENT OF HOMELAND SECURITY

Federal Emergency Management Agency

[Docket ID FEMA-2021-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of May 18, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Morgan County, Colorado and Incorporated Areas
Docket No.: FEMA-B-1977
City of Fort Morgan | Planning and Zoning Office, 110 Sherman Street, Fort Morgan, CO 80701.
Unincorporated Areas of Morgan County | Morgan County Planning and Zoning Department, 231 Ensign Street, Fort Morgan, CO 80701.
Sedgwick County, Colorado and Incorporated Areas
Docket No.: FEMA-B-1977
Town of Julesburg | Town Hall, 100 West 2nd Street, Julesburg, CO 80737.
Town of Ovid | Town Hall, 211 Main Street, Ovid, CO 80744.
Town of Sedgwick | Town Hall, 29 Main Avenue, Sedgwick, CO 80749.
Unincorporated Areas of Sedgwick County | Sedgwick County Courthouse, 315 Cedar Street, Suite 220, Julesburg, CO 80737.
Washington County, Colorado and Incorporated Areas
Docket No.: FEMA-B-1977
Town of Akron | Town Hall, 245 Main Avenue, Akron, CO 80720.
Town of Otis | Town Hall, 102 South Washington Street, Otis, CO 80743.
Unincorporated Areas of Washington County | Washington County Courthouse, 150 Ash Avenue, Akron, CO 80720.
Fayette County, Iowa and Incorporated Areas
Docket No.: FEMA-B-1910
City of Arlington | City Clerk's Office, 755 Main Street, Arlington, IA 50606.
City of Clermont | City Hall, 505 Larrabee Street, Clermont, IA 52135.
City of Elgin | City Hall, 212 Main Street, Elgin, IA 52141.
City of Fayette | City Hall, 11 South Main Street, Fayette, IA 52142.
City of Hawkeye | Government Office, 104 South 2nd Street, Hawkeye, IA 52147.
City of Maynard | City Clerk's Office, 135 3rd Street South, Maynard, IA 50655.
City of Oelwein | City Hall, 20 2nd Avenue Southwest, Oelwein, IA 50662.
City of Randalia | City Hall, 107 North 2nd Street, Randalia, IA 52164.
City of St. Lucas | City Hall, 101 West Main Street, St. Lucas, IA 52166.
City of Wadena | City Hall, 136 South Mill Street, Wadena, IA 52169.
City of Waucoma | Community Center, 113 1st Avenue Southwest, Waucoma, IA 52171.
City of Westgate | City Hall, 104 North Cass Street, Westgate, IA 50681.
City of West Union | City Hall, 612 Highway 150 South, West Union, IA 52175.
Unincorporated Areas of Fayette County | Fayette County Courthouse, 114 North Vine Street, West Union, IA 52175.
Roger Mills County, Oklahoma and Incorporated Areas
Docket No.: FEMA-B-1966
Town of Cheyenne | Town Hall, 414 East Broadway Avenue, Cheyenne, OK 73628.
Town of Hammon | Town Hall, 715 Main Street, Hammon, OK 73650.
Town of Reydon | Cheyenne Town Hall, 414 East Broadway Avenue, Cheyenne, OK 73628.
Town of Strong City | Roger Mills County Courthouse, 500 East Broadway Avenue, Cheyenne, OK 73628.
Unincorporated Areas of Roger Mills County | Roger Mills County Courthouse, 500 East Broadway Avenue, Cheyenne, OK 73628.
Schuylkill County, Pennsylvania (All Jurisdictions)
Docket No.: FEMA-B-1927
Borough of Ashland | Borough Hall, 401 South 18th Street, Ashland, PA 17921.
Borough of Auburn | Borough Hall, 451 Pearson Street, Auburn, PA 17922.
Borough of Coaldale | Borough Office, 221 3rd Street, Coaldale, PA 18218.
Borough of Cressona | Municipal Building, 68 South Sillyman Street, Cressona, PA 17929.
Borough of Deer Lake | Deer Lake Borough Municipal Building, 238 Lakefront Drive, Orwigsburg, PA 17961.
Borough of Frackville | Borough Hall, 42 South Center Street, Frackville, PA 17931.
Borough of Gilberton | Gilberton Borough Hall, 2710 Main Street, Mahanoy Plane, PA 17949.
Borough of Girardville | Borough Hall, 201 North 4th Street, Girardville, PA 17935.
Borough of Gordon | Municipal Building, 324 East Plane and Otto Streets, Gordon, PA 17936.
Borough of Landingville | Borough Hall, 8 Park Street, Landingville, PA 17972.
Borough of Mahanoy City | Municipal Building, 239 East Pine Street, Mahanoy City, PA 17948.
Borough of McAdoo | Borough Hall, 23 North Hancock Street, McAdoo, PA 18237.
Borough of Mechanicsville | Mechanicsville Borough Hall, 918 1st Street, Pottsville, PA 17901.
Borough of Middleport | Borough Hall, 27 Washington Street, Middleport, PA 17953.
Borough of Minersville | Borough Hall, 2 East Sunbury Street, Minersville, PA 17954.
Borough of Mount Carbon | Borough Hall, 1108 South Centre Street, Mount Carbon, PA 17901.
Borough of New Philadelphia | Borough Hall, 15 Macomb Street, New Philadelphia, PA 17959.
Borough of New Ringgold | Borough Building, 302 East Railroad Avenue, New Ringgold, PA 17960.
Borough of Orwigsburg | Borough Hall, 209 North Warren Street, Orwigsburg, PA 17961.
Borough of Palo Alto | Palo Alto Borough Hall, 142 East Bacon Street, Pottsville, PA 17901.
Borough of Pine Grove | Borough Hall, 1 Snyder Avenue, Pine Grove, PA 17963.
Borough of Port Carbon | Borough Hall, 301 1st Street, Port Carbon, PA 17965.
Borough of Port Clinton | Port Clinton Borough Building, 44 Motel Drive, Shartlesville, PA 19554.
Borough of Ringtown | Borough Hall, 31 South Center Street, Ringtown, PA 17967.
Borough of Schuylkill Haven | Borough Hall, 333 Center Avenue, Schuylkill Haven, PA 17972.
Borough of Shenandoah | Municipal Building, 15 West Washington Street, Shenandoah, PA 17976.
Borough of St. Clair | Borough Hall, 16 South 3rd Street, St. Clair, PA 17970.
Borough of Tamaqua | Municipal Building, 320 East Broad Street, Tamaqua, PA 18252.
Borough of Tower City | Borough Building, 219 East Colliery Avenue, Tower City, PA 17980.
Borough of Tremont | Municipal Building, 139 Clay Street, Suite 1, Tremont, PA 17981.
City of Pottsville | City Hall, 401 North Centre Street, Pottsville, PA 17901.
Township of Barry | Barry Township Community Center, 868 Deep Creek Road, Ashland, PA 17921.
Township of Blythe | Township of Blythe, Lehigh Engineering, 200 Mahantongo Street, Pottsville, PA 17901.
Township of Branch | Branch Township Building, 46 Phoenix Park Road, Llewellyn, PA 17944.
Township of Butler | Butler Township Building, 211 Broad Street, Ashland, PA 17921.
Township of Cass | Cass Township Municipal Building, 1209 Valley Road, Pottsville, PA 17901.
Township of Delano | Municipal Building, 1 Hazle Street, Delano, PA 18220.
Township of East Brunswick | East Brunswick Township Building, 35 West Catawissa Street, New Ringgold, PA 17960.
Township of East Norwegian | East Norwegian Township Building, 593 Port Carbon Saint Clair Highway, Pottsville, PA 17901.
Township of East Union | East Union Township Municipal Building, 10 East Elm Street, Sheppton, PA 18248.
Township of Eldred | Eldred Township Building, 154 Ridge Road, Pitman, PA 17964.
Township of Foster | Foster Township Building, 1540 Sunbury Road, Pottsville, PA 17901.
Township of Frailey | Frailey Township Building, 23 Maryland Street, Donaldson, PA 17981.
Township of Hegins | Hegins Township Municipal Building, 421 Gap Street, Valley View, PA 17983.
Township of Hubley | Hubley Township Building, 2208 East Main Street, Sacramento, PA 17968.
Township of Kline | Kline Township Building, 30 5th Street, Kelayres, PA 18231.
Township of Mahanoy | Mahanoy Township Building, 1010 West Centre Street, Mahanoy City, PA 17948.
Township of New Castle | New Castle Township Building, 248-250 Broad Street, St. Clair, PA 17970.
Township of North Manheim | North Manheim Township Building, 303 Manheim Road, Pottsville, PA 17901.
Township of North Union | North Union Township Building, 185 Mahanoy Street, Nuremberg, PA 18241.
Township of Norwegian | Norwegian Township Building, 506 Maple Avenue, Mar Lin, PA 17951.
Township of Pine Grove | Township Building, 175 Oak Grove Road, Pine Grove, PA 17963.
Township of Porter | Porter Township Building, 309 West Wiconisco Street, Muir, PA 17957.
Township of Reilly | Reilly Township, Newtown Fire Company, 36 Wood Street, Tremont, PA 17981.
Township of Rush | Rush Township Building, 104 Mahanoy Avenue, Tamaqua, PA 18252.
Township of Ryan | Ryan Township Building, 36 North 5th Avenue, Barnesville, PA 18214.
Township of Schuylkill | Schuylkill Township Building, 75 Walnut Street, Mary-D, PA 17952.
Township of South Manheim | South Manheim Township Building, 3089 Fair Road, Auburn, PA 17922.
Township of Tremont | Tremont Township Building, 166 Molleystown Road, Pine Grove, PA 17963.
Township of Union | Union Township Building, 155 Zion Grove Road, Ringtown, PA 17967.
Township of Upper Mahantongo | Upper Mahantongo Township Building, 6 Municipal Road, Klingerstown, PA 17941.
Township of Walker | Walker Township Building, 9 Township Road, Tamaqua, PA 18252.
Township of Washington | Washington Township Building, 225 Frantz Road, Pine Grove, PA 17963.
Township of Wayne | Wayne Township Building, 10 Municipal Road, Schuylkill Haven, PA 17972.
Township of West Brunswick | West Brunswick Township Building, 95 Municipal Road, Orwigsburg, PA 17961.
Township of West Mahanoy | West Mahanoy Township Building, 190 Pennsylvania Avenue, Shenandoah, PA 17976.
Township of West Penn | West Penn Township Building, 27 Municipal Road, New Ringgold, PA 17960.

[FR Doc. 2021-01514 Filed 1-22-21; 8:45 am]

BILLING CODE 9110-12-P